DEPARTMENT OF HEALTH AND HUMAN SERVICES

Food and Drug Administration

[Docket No. FDA-2020-N-2227]

Food and Drug Administration Fiscal Year 2020 Performance Review Board

AGENCY: Food and Drug Administration, HHS.

ACTION: Notice.

SUMMARY: The Food and Drug Administration (FDA) is announcing the names of the members who will serve on its fiscal year (FY) 2020 Performance Review Board (PRB). The purpose of the PRB is to provide fair and impartial review of Senior Executive Service (SES), Senior Professional, 21st Century Cures Act, and Title 42(f) (SES Equivalents) performance appraisals, bonus recommendations, and pay adjustments.

DATES: Approved October 1, 2020.

FOR FURTHER INFORMATION CONTACT: Abu Sesay, Office of Human Capital Management (OHCM), Three White Flint North, 02C47, 11601 Landsdown St., North Bethesda, MD 20852, Office Number: 240-402-0440 (not a toll-free number).

SUPPLEMENTARY INFORMATION: This action is being taken pursuant to 5 U.S.C. 4314(c)(4), which requires that members of performance review boards be appointed in a manner to ensure consistency, stability, and objectivity in performance appraisals and requires that notice of the appointment of an individual to serve as a member be published in the Federal Register.

The following persons will serve on the FDA FY 2020 Performance Review Board, which oversees the evaluation of performance appraisals of FDA's Senior Executives and Equivalents:

• James Sigg, PRB Chair

• Tania Tse, PRB Officiator

• Glenda Barfell

• Janelle Barth

• Vincent Bunning

• Mary Beth Clarke

• Elizabeth Dickinson

• Tracey Forfa

• Denise Huttenlocker

• Diane Maloney

• William Tootle

Dated: December 4, 2020.
Lauren K. Roth,
Acting Principal Associate Commissioner for Policy.

[FR Doc. 2020-27123 Filed 12-9-20; 8:45 am]

BILLING CODE 4164-01-P